FEDERAL COMMUNICATIONS COMMISSION

47 CFR Part 101

[WT Docket No. 10-153; RM-11602; DA 11-1674]

Facilitating the use of Microwave for Wireless Backhaul and Other Uses and Providing Additional Flexibility To Broadcast Auxiliary Service and Operational Fixed Microwave Licensees

AGENCY: Federal Communications Commission.

ACTION: Final rule; correction.

SUMMARY: This document contains corrections to the final regulations which were published in the Federal Register on Tuesday, September 27, 2011 (76 FR 59559), of a Report and Order and Memorandum Opinion and Order, FCC 11-120, adopted and released on August 9, 2011. This document corrects Appendix A by correcting adopted § 101.147(p).

DATES: Effective on October 27, 2011.

FOR FURTHER INFORMATION CONTACT: John Schauble, Wireless Telecommunications Bureau, Broadband Division, at 202-418-0797 or by e-mail to John.Schauble@fcc.gov.

SUPPLEMENTARY INFORMATION: The FCC published a document in the Federal Register on September 27, 2011 (76 FR 59559), adopting final rules in § 101.147(p). In the Federal Register document FCC 11-120, published on September 27, 2011 (76 FR 59559), the table under § 101.147(p)(2)(v) was incorrect. This document makes the following correction.

PART 101 [CORRECTED]

§ 101.147 [Corrected]

In the FR Doc. 2011-23001, published on September 27, 2011 (76 FR 59559), make the following correction. On page 59574, in the first and second columns, § 101.147(p)(2)(v) is corrected to read as follows:

(v) 50 MHz bandwidth channels:

Transmit (receive) (MHz) | Receive (transmit) (MHz)
12725 | 12950
12775 | 13000
12825 | 13050
12875 | 13100

Federal Communications Commission.
Blaise A. Scinto,
Chief, Broadband Division, Wireless Telecommunications Bureau.

[FR Doc. 2011-27585 Filed 10-24-11; 8:45 am]

BILLING CODE 6712-01-P